DEPARTMENT OF DEFENSE

Department of the Navy

[USN-2007-0039]

Privacy Act of 1974; System of Records

AGENCY: Department of the Navy.

ACTION: Notice to add a system of records.

SUMMARY: The Department of the Navy proposes to add a system of records to its inventory of record systems subject to the Privacy Act of 1974 (5 U.S.C. 552a), as amended.

DATES: The proposed action will be effective on August 8, 2007 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's notices for systems of records subject to the Privacy Act of 1974 (5 U.S.C. 552a), as amended, have been published in the Federal Register and are available from the address above.

The proposed systems reports, as required by 5 U.S.C. 552a(r) of the Privacy Act, were submitted on June 29, 2007, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996, (February 20, 1996, 61 FR 6427).

Dated: July 2, 2007.
C.R. Choate,
Alternate OSD Federal Register Liaison Officer, Department of Defense.

NM06150-7

System Name:

Navy-Marine Corps Combat Trauma Registry (CTR).

System Location:

Naval Health Research Center, P.O. Box 85122, San Diego, CA 92186-5122.

Categories of Individuals Covered By the System:

All injury, disease, psychiatric, and sick call patients (active duty Army, Air Force, Navy, Marine Corps, and Coast Guard, reserve/National Guard, civilian, and contractor) initially treated at a deployed Navy-Marine Corps medical facility during military operations.

Categories Of Records In the System:

Demographic and health data related to the injury, disease or psychiatric event incurred. Demographic data includes individual's name, Social Security Number (SSN), rank, unit, date of birth, gender. Event data includes mechanism of injury, personal protective equipment, date and times of injury, and arrival to the treatment facility. Health data includes anatomical location of injury, vital signs, diagnosis, treatment, procedures, operative notes, disposition, outcomes, and quality of life indicators.

Health data are collected from clinical encounters, from the point of injury (or disease event) through long-term rehabilitative care.

Authority For Maintenance of the System:

10 U.S.C. 5013, Secretary of the Navy; 10 U.S.C. 5041, Headquarters, Marine Corps; OASD/HA Policy 04-031, Coordination of Policy to Establish a Joint Theater Trauma Registry; Memorandum of Understanding between the Naval Health Research Center and the U.S. Army Institute of Surgical Research; and E.0. 9397 (SSN).

Purpose(s):

To create, populate, and maintain a computerized database of medical events associated with combat casualty care. From the point of injury (or disease event) through final rehabilitative outcome(s) for patients treated at Navy-Marine Corps medical facilities; To track persons through the medical chain of evacuation, to relate outcomes with medical care received, and to conduct research studies and analyses; to track active duty personnel initially treated at these facilities throughout the medical chain of evacuation and on through long-term rehabilitative care; to provide Navy-Marine Corps data to the Joint Theater Trauma Registry at the Institute of Surgical Research, Brooke Army Medical Center, San Antonio, TX, for the aggregation of Army, Navy, and Air Force combat casualty data.

Routine Uses of Records Maintained In the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of system of record notices also apply to this system, except as identified below.

Note 1: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Note 2: Personal identity, diagnosis, prognosis or treatment information of any patient maintained in connection with the performance of any program or activity relating to substance abuse education, prevention, training, treatment, rehabilitation, or research, which is conducted, regulated, or directly or indirectly assisted by any department or agency of the United States, except as provided in 42 U.S.C. 290dd-2, will be treated as confidential and will be disclosed only for the purposes and under the circumstances expressly authorized under 42 U.S.C. 290dd-2. The “Blanket Routine Uses” do not apply to these types of records.

Policies and practices for storing, retrieving, accessing, retaining, and disposing of records:

Storage:

Paper records in file folders and electronic storage media.

Retrievability:

Individual's name and Social Security Number (SSN).

Safeguards:

Records are located in restricted areas accessible only to authorized personnel that are properly screened, cleared, and trained. Automated information is password protected and encrypted. Automated and manual records are available only to authorized personnel having a need-to-know.

Retention and Disposal:

Permanent.

System Manager(S) and Address:

Policy Official: Commanding Officer, Naval Health Research Center, P.O. Box 85122, San Diego, CA 92186-5122.

Record Holder: Principal Investigator, Navy-Marine Corps Combat Trauma Registry, Naval Health Research Center, P.O. Box 85122, San Diego, CA 92186-5122.

Notification Procedure:

Individuals seeking to determine whether this system of records contains information about themselves should address written inquiries to the Principal Investigator, Navy-Marine Corps Combat Trauma Registry, Naval Health Research Center, P.O. Box 85122, San Diego, CA 92186-5122.

The request should include the individual's full name, Social Security Number (SSN), complete mailing address, and must be signed by the service member requesting the information.

Record Access Procedure:

Individuals seeking access to records about themselves contained in this system of records should address written inquiries to the Principal Investigator, Navy-Marine Corps Combat Trauma Registry, Naval Health Research Center, P.O. Box 85122, San Diego, CA 92186-5122.

The request should include the individual's full name, Social Security Number (SSN), complete mailing address, and must be signed by the service member requesting the information.

Contesting Record Procedure:

The Navy's rules for accessing records, and for contesting contents and appealing initial agency determinations are published in Secretary of the Navy Instruction 5211.5; 32 CFR part 701; or may be obtained from the system manager.

Record Source Categories:

Individual theater medical registry forms; medical records at Landstuhl Regional Medical Center, Germany (LRMC); National Naval Medical Center, Bethesda (NNMC); autopsy records at Armed Forces Institute of Pathology, Washington, DC (AFIP); Career History Archival Medical and Personnel System (CHAMPS); Civil Composite Health Care System (CHCS); Defense Enrollment Eligibility Reporting System (DEERS); Defense Manpower Data Center (DMDC), Joint Patient Tracking Application (JPTA); Joint Theater Trauma Registry (JTTR); and TRICARE Management Activity (TMA).

Exemptions Claimed For the System:

None.

[FR Doc. E7-13193 Filed 7-6-07; 8:45 am]

BILLING CODE 5001-06-P